DEPARTMENT OF LABOR

Employment and Training Administration

[TA-W-70,774]

Sychip, Inc., a Wholly Owned Subsidiary of Murata Electronics North America, Inc. (MENA), Including Workers Whose Unemployment Insurance (UI) Wages Are Paid Through Either Adminstaff or MENA, Plano, TX; Amended Certification Regarding Eligibility To Apply for Worker Adjustment Assistance

In accordance with Section 223 of the Trade Act of 1974, as amended (“Act”), 19 U.S.C. 2273, the Department of Labor issued a Certification of Eligibility to apply for Worker Adjustment Assistance on September 23, 2009, applicable to workers of Sychip, Inc., Plano, Texas. The notice was published in the Federal Register on November 17, 2009 (74 FR 59254). The notice was amended on October 21, 2009 to include on-site leased workers from Adminstaff. The notice was published in the Federal Register on November 10, 2009 (74 FR 58052).

At the request of the State Agency, the Department reviewed the certification for workers of the subject firm. The workers are engaged in activities related to the production of wireless modules.

New information shows that Sychip, Inc. is a wholly owned subsidiary of Murata Electronics North America, Inc. (MENA). Since January 1, 2010, workers separated from employment at the subject firm had their wages reported under a separate unemployment insurance (UI) tax account for Murata Electronics North America, Inc. (MENA). Prior to January 1, 2010, workers of the subject firm had their waged reported under a separate unemployment insurance (UI) tax account for Administaff.

Accordingly, the Department is amending this certification to properly reflect these matters.

The intent of the Department's certification is to include all workers of the subject firm who were adversely affected as downstream producers to Honeywell International, a TAA Certified firm.

The amended notice applicable to TA-W-70,774 is hereby issued as follows:

All workers of Sychip, Inc., a wholly owned subsidiary of Murata Electronics North America, Inc. (MENA), including workers whose unemployment insurance (UI) wages are paid through Adminstaff, and including workers reported under a tax account for MENA, Plano, Texas, who became totally or partially separated from employment on or after May 27, 2008 through September 23, 2011, and all workers in the group threatened with total or partial separation from employment on the date of certification through two years from the date of certification, are eligible to apply for adjustment assistance under Chapter 2 of Title II of the Trade Act of 1974, as amended.

Signed in Washington, DC, this 5th day of May, 2010.
Richard Church,
Certifying Officer, Division of Trade Adjustment Assistance.

[FR Doc. 2010-12113 Filed 5-19-10; 8:45 am]

BILLING CODE 4510-FN-P